DEPARTMENT OF COMMERCE

International Trade Administration

[A-351-605]

Frozen Concentrated Orange Juice From Brazil; Antidumping Duty Administrative Review; Time Limits

AGENCY: Import Administration, International Trade Administration, Department of Commerce.

SUMMARY: The Department of Commerce is extending the time limits of the preliminary results of the 12th antidumping duty administrative review of frozen concentrated orange juice from Brazil. The review covers four producers/exporters of the subject merchandise to the United States and the period May 1, 1998, through April 30, 1999.

EFFECTIVE DATE: January 20, 2000.

FOR FURTHER INFORMATION CONTACT: Shawn Thompson at (202) 482-1776, or Irina Itkin at (202) 482-0656, Office of AD/CVD Enforcement, Import Administration, International Trade Administration, U.S. Department of Commerce, 14th Street and Constitution Avenue, N.W., Washington, D.C., 20230.

SUPPLEMENTARY INFORMATION: Because it is not practicable to complete this administrative review within the time limits mandated by the Uruguay Round Agreements Act (245 days from the last day of the anniversary month for preliminary results, 120 additional days for final results), pursuant to section 751(a)(3)(A) of Tariff Act of 1930, as amended (the Act), the Department is extending the time limit for completion of the preliminary results until May 30, 2000. See Memorandum to Robert LaRussa, dated January 11, 2000.

This extension is in accordance with section 751(a)(3)(A) of the Act (19 U.S.C. 1675(a)(3)(A)).

Dated: January 12, 2000.
Richard W. Moreland,
Deputy Assistant Secretary for Import Administration.

[FR Doc. 00-1260 Filed 1-19-00; 8:45 am]

BILLING CODE 3510-DS-P